DEPARTMENT OF TRANSPORTATION

Federal Aviation Administration

Notice of Extension of the Public Comment Period for the Chicago Terminal Airspace Project Draft Environmental Impact Statement

AGENCY: Federal Aviation Administration, DOT.

ACTION: Notice of extension of public comment period.

SUMMARY: The Federal Aviation Administration, Great Lakes Region, is issuing this notice to advise the public that it is extending the public comment period for the Draft Environmental Impact Statement (DEIS) for the Chicago Terminal Airspace Project (CTAP) until February 15, 2001.

FOR FURTHER INFORMATION CONTACT: Ms. Annette Davis, Federal Aviation Administration, Great Lakes Region, Air Traffic Division, 2300 East Devon Avenue, Des Plaines, Illinois, 60018, (847) 294-8091.

SUPPLEMENTARY INFORMATION: The proposed CTAP changes could affect flights to and from airports within the Chicago region, including Chicago O'Hare International Airport, Chicago Midway Airport, Milwaukee Mitchell International Airport, and general aviation reliever airports. The changes proposed by CTAP are designed to improve traffic flows and reduce airborne and ground delays. CTAP would not result in significant adverse impacts to any resource category. Pursuant to requests received by the public, the public comment period associated with the CTAP DEIS has been extended from January 12, 2001, to February 15, 2001. Copies of the CTAP DEIS are available at the following locations:

State of Illinois

Bensenville Public Library, 200 S. Church Rd., Bensenville, IL 60106

Des Plaines Public Library, 841 Graceland Ave., Des Plains, IL 60016

Eisenhower Public Library, 4652 N. Olcott Ave., Harwood Heights, IL 60656

Elk Grove Village Public Library, 1001 Wellington Ave., Elk Grove Village, IL 60007

Elmhurst Public Library, 211 Prospect Ave., Elmhurst, IL 60126

Franklin Park Public Library, 10311 Grand Ave., Franklin Park, IL 60131

Garfield Ridge Branch Library, 6348 South Archer Ave., Chicago, IL 60638

Harold Washington Library, 400 South State St., 5th Floor, Chicago, IL 60605

Mount Prospect Public Library, 10 S. Emerson St., Mount Prospect, IL 60056

Northlake Public Library, 231 N. Wolf Rd., Northlake, IL 60164

Oriole Park Branch Library, 5201 N. Oketo Ave., Chicago, IL 60656

Park Ridge Public Library, 20 S. Prospect Ave., Park Ridge, IL 60068

Schiller Park Public Library, 4200 Old River Rd., Schiller Park, IL 60176

State of Indiana

Lake County Public Library, 1919 W. 81st Ave., Merrillville, IN 46410-5382

State of Wisconsin

Milwaukee Central Public Library, 814 W. Wisconsin Ave., Milwaukee, WI 53233

Oak Creek Public Library, 8620 S. Howell Ave., Oak Creek, WI 53154

Issued in Des Plaines, Illinois, on December 21, 2000.
Denis C. Burke,
Manager, Airspace Branch, Air Traffic Division, Great Lakes Region.

[FR Doc. 01-90 Filed 1-2-01; 8:45 am]

BILLING CODE 4910-13-M